FEDERAL ELECTION COMMISSION

Sunshine Act Notices

May 1, 2009

AGENCY: Federal Election Commission.

Date and Time: Thursday, May 7, 2009, at 10 a.m.

Place: 999 E Street, NW., Washington, DC (Ninth Floor).

Status: This meeting will be open to the public.

Items to be Discussed:

Correction and Approval of Minutes.

Draft Advisory Opinion 2009-08: Congressman Elton Gallegly, Elton Gallegly for Congress.

Report of the Audit Division on Kuhl for Congress.

Report of the Audit Division on League of Conservation Voters Action Fund.

Report of the Audit Division on the Ciro D. Rodriguez for Congress Committee.

Report of the Audit Division on Zinga for Congress.

Discussion of Press Release Policy.

Management and Administrative Matters.

Individuals who plan to attend and require special assistance, such as sign language interpretation or other reasonable accommodations, should contact Mary Dove, Commission Secretary, at (202) 694-1040, at least 72 hours prior to the hearing date.

Person to Contact for Information: Judith Ingram, Press Officer, Telephone: (202) 694-1220.

Mary W. Dove,
Secretary of the Commission.

[FR Doc. E9-10530 Filed 5-6-09; 8:45 am]

BILLING CODE 6715-01-M